DEPARTMENT OF HOUSING AND URBAN DEVELOPMENT

[Docket No. FR-4959-N-02]

Modification of the Waivers Granted to and Alternative Requirements for Community Development Block Grant (CDBG) Disaster Recovery Grantees Under the Military Construction Appropriations and Emergency Hurricane Supplemental Appropriations Act, 2005

AGENCY: Office of the Secretary, HUD.

ACTION: Waiver for the State of Maryland.

SUMMARY: This notice advises the public of additional waivers of regulations and statutory provisions granted to CDBG disaster recovery grantees for the purpose of assisting in the recovery from the federally declared disasters that occurred between August 31, 2003, and October 1, 2004. As described in the SUPPLEMENTARY INFORMATION section of this notice, HUD is authorized by statute to waive statutory and regulatory requirements and specify alternative requirements for this purpose. This notice describes additional waivers requested by the State of Maryland to allow it to administer disaster recovery grant funds directly rather than by distributing funds to units of general local government or Indian tribes.

DATES: Effective Date: May 11, 2005.

FOR FURTHER INFORMATION CONTACT: Jan C. Opper, Director, Disaster Recovery and Special Issues, Office of Block Grant Assistance, Department of Housing and Urban Development, Room 7286, 451 Seventh Street, SW., Washington, DC 20410-7000, (202) 708-3587. Persons with hearing or speech impairments may access this number via TTY by calling the Federal Information Relay Service at (800) 877-8339. Facsimile (FAX) inquiries may be sent to Mr. Opper at (202) 401-2044. (Except for the “800” number, these telephone numbers are not toll-free.)

SUPPLEMENTARY INFORMATION:

Authority To Grant Waivers

The Military Construction Appropriations and Emergency Hurricane Supplemental Appropriations Act, 2005 (Pub. L.108-324, approved October 13, 2004) (the Act) appropriates $150 million in CDBG funds for disaster relief, long-term recovery, and mitigation directly related to the effects of the covered disasters. The Act authorizes the Secretary to waive, or specify alternative requirements for, any provision of any statute or regulation that the Secretary administers in connection with the obligation by the Secretary or use by the recipient of these funds, except for requirements related to fair housing, nondiscrimination, labor standards, and the environment, upon a finding that such waiver is required to facilitate the use of such funds and would not be inconsistent with the overall purpose of the statute.

The Secretary finds that the following waiver and alternative requirements are necessary to facilitate the use of these funds for their required purposes. The Secretary also finds that such uses of funds, as described below, are not inconsistent with the overall purpose of Title I of the Housing and Community Development Act of 1974, as amended, or the Cranston-Gonzalez National Affordable Housing Act, as amended.

Except as noted by published waivers and alternative requirements, the statutory and regulatory provisions governing the CDBG program for states, including those at 24 CFR part 570 subpart I, shall apply to the use of these funds granted to states. In a Federal Register notice published December 10, 2004 (69 FR 72100), and effective December 15, 2004, the Department promulgated waivers and alternative requirements necessary to facilitate the use of the subject grant funds.

Distribution of Funds Waiver

This notice waives requirements at 42 U.S.C. 5306 to the extent necessary to allow the State of Maryland to use its grant funds to directly carry out the state-funded and state-administered Hurricane Isabel Rehabilitation, Renovation, and Replacement Housing Program (HIRRRP) and other state-administered activities related to disaster relief, long-term recovery, and mitigation from the covered disaster. The HIRRRP program is designed to help disaster victims with housing repair after all other sources of assistance are exhausted. Although local governments carry out most HUD disaster recovery activities, in the aftermath of Hurricane Isabel the State of Maryland shifted the responsibility for helping impacted households from local governments and Indian tribes onto the state, primarily through implementation of the HIRRRP. The state has asked for this waiver primarily to permit its HUD disaster recovery grant to be used to supplement its existing HIRRRP funds and to bring the total funding for this program closer to closing the gap with the total estimated need. The notice also provides conforming waivers to and alternative requirements for related areas of the regulations.

In carrying out an activity directly, the State of Maryland must note that its environmental role is delineated at 24 CFR 58.4(b).

Description of Modifications

1. A new paragraph 22 is added to the requirements of the notice published on December 10, 2004 (69 FR 72100), by adding text to read as follows:

State of Maryland direct grant administration.

22. a. Provisions of 42 U.S.C. 5306 currently require a state to distribute CDBG funds to units of general local government or Indian tribes rather than to carry activities out directly. This notice waives 42 U.S.C. 5306 to the extent necessary to allow the State of Maryland to use its disaster recovery grant allocation directly to carry out HIRRRP and other state-administered activities related to disaster relief, long-term recovery, and mitigation from the covered disaster rather than distributing funds to units of general local government or to Indian tribes. The provisions of paragraph b. which follows, conform state CDBG rules to this waiver for the State of Maryland and do not apply to other disaster recovery grants under the Act.

b. These conforming waivers and alternative requirements also apply:

(i) At 24 CFR 570.480(c), with respect to the basis for HUD determining that the state has failed to carry out its certifications, such basis shall be that the state has failed to carry out its certifications in compliance with applicable program requirements.

(ii) 24 CFR 570.490(a) and (b) are waived and the following provision shall apply: “State records. The state shall establish and maintain such records as may be necessary to facilitate review and audit by HUD of the state's administration of CDBG funds under § 570.493. Consistent with applicable statutes, regulations, waivers and alternative requirements, and other federal requirements, the content of records maintained by the state shall be sufficient to enable HUD to make the applicable determinations described at § 570.493; make compliance determinations for activities carried out directly by the state; and show how activities funded are consistent with the descriptions of activities proposed for funding in the action plan. For fair housing and equal opportunity purposes, and as applicable, such records shall include data on the racial, ethnic, and gender characteristics of persons who are applicants for, participants in, or beneficiaries of the program.” 24 CFR 570.490(c) and (d) shall also apply.

(iii) Change of use of real property. In 24 CFR 570.489(j), (j)(1), and the last sentence of (j)(2), “unit of general local government” shall be read as “unit of general local government or state.”

(iv) Responsibility for state review and handling of noncompliance. 24 CFR 570.492 is waived and the following alternative requirement applies: The state shall make reviews and audits including on-site reviews of any subrecipients, designated public agencies, and units of general local government as may be necessary or appropriate to meet the requirements of Section 104(e)(2) of the Act. In the case of noncompliance with these requirements, the state shall take such actions as may be appropriate to prevent a continuance of the deficiency, mitigate any adverse effects or consequences, and prevent a recurrence. The state shall establish remedies for noncompliance by any designated public agencies or units of general local government and for its subrecipients.

Dated: April 19, 2005.
Roy A. Bernardi,
Deputy Secretary.

[FR Doc. E5-1963 Filed 4-25-05; 8:45 am]

BILLING CODE 4210-29-P